FEDERAL COMMUNICATIONS COMMISSION

47 CFR Part 64

[CG Docket No. 02-278; CG Docket No. 05-338; FCC 05-206]

Rules and Regulations Implementing the Telephone Consumer Protection Act of 1991

AGENCY: Federal Communications Commission.

ACTION: Final rule.

SUMMARY: The Commission released an Order delaying until January 9, 2006, the effective date of the Commission's rule requiring the sender of a facsimile advertisement to obtain the recipient's express permission in writing. The Junk Fax Prevention Act of 2005 was subsequently signed into law amending section 227 of the Communications Act of 1934 relating to unsolicited facsimile advertisements and requiring this Commission to issue regulations to implement the statute. Therefore, this document extends the stay of the Commission's existing facsimile advertising rules, until the conclusion of the Commission's rulemaking.

DATES: The effective date of § 64.1200(a)(3)(i), published at 68 FR 44144, July 25, 2003, is delayed until further notice published in the Federal Register.

ADDRESSES: Federal Communications Commission, 445 12th Street, SW., Washington, DC 20554.

FOR FURTHER INFORMATION CONTACT: Erica McMahon or Richard Smith, Consumer & Governmental Affairs Bureau, (202) 418-2512.

SUPPLEMENTARY INFORMATION: This is a summary of the Commission's Order, CG Docket Nos. 02-278 and 05-338, FCC-05-206, adopted and released December 9, 2005. The Order further delays the effective date of a rule initially adopted in Rules and Regulations Implementing the Telephone Consumer Protection Act of 1991, Report and Order, (2003 TCPA Order), CG Docket No. 02-278, FCC 03-153, released July 3, 2003; published at 68 FR 44144, July 25, 2003. In association with this Order, the Commission released a NPRM, FCC 05-206, adopted and released December 9, 2005, that proposes amendments to its unsolicited facsimile advertising rules and seeks comment on related aspects of those rules. The NPRM also opens a new docket—CG Docket No. 05-338—for all filings in response to this document and those addressing the facsimile advertising rules generally.

This document does not contain new or modified information collection requirements subject to the Paperwork Reduction Act of 1995 (PRA), Public Law 104-13. In addition, it does not contain new or modified “information collection burdens for small business concerns with fewer than 25 employees,” pursuant to the Small Business Paperwork Relief Act of 2002, Public Law 107-198, see 44 U.S.C. 3506(c)(4). Copies of any subsequently filed documents in this matter will be available for public inspection and copying during regular business hours at the FCC Reference Information Center, Portals II, Room CY-A257, 445 12th Street, SW., Washington, DC 20054. The complete text of this decision may be purchased from the Commission's duplicating contractor at Portals II, 445 12th Street, SW., Room CY-B402, Washington, DC 20554. Customers may contact the Commission's contractor at their Web site: www.bcpiweb.com or call 1-800-378-3160. To request materials in accessible formats for people with disabilities (Braille, large print, electronic files, audio format), send an e-mail to fcc504@fcc.gov or call the Consumer & Governmental Affairs Bureau at (202) 418-0530 (voice) or (202) 418-0432 (TTY). The Order can also be downloaded in Word and Portable Document Format (PDF) at http://www.fcc.gov/cgb/policy.

Synopsis

On June 27, 2005, the Commission released an order, CG Docket No. 02-278, published at 70 FR 37705, delaying until January 9, 2006, the effective date of the Commission's determination that an established business relationship (EBR) will no longer be sufficient to show that an individual or business has given its permission to receive unsolicited facsimile advertisements. Consistent with the Junk Fax Prevention Act of 2005, the Commission extends the stay of the Commission's existing facsimile advertising rules until the conclusion of this rulemaking. Specifically, the Commission delays until the conclusion of this rulemaking, the effective date of: (1) The Commission's prior determination that an EBR will no longer be sufficient to show that an individual or business has given prior express permission to receive an unsolicited facsimile advertisement; (2) § 64.1200(a)(3)(i) of the Commission's rules, which requires a person or entity sending a facsimile advertisement to obtain a prior signed, written statement as evidence of a facsimile recipient's permission to receive the advertisement; and (3) the rule establishing the duration of an EBR as applied to the sending of unsolicited facsimile advertisements.

Regulatory Flexibility Act Analysis

The Commission notes that no Final Regulatory Flexibility Analysis is necessary for this Order. The Commission is not making any changes to the Commission's rules; rather, we are simply delaying the effective date of a rule.

Congressional Review Act

The Commission will not send a copy of this Order pursuant to the Congressional Review Act, see 5 U.S.C. 801(a)(1)(A), because the adopted rules are rules of particular applicability.

Ordering Clauses

Pursuant to the authority contained in sections 1-4, 227, and 303(r), of the Communications Act of 1934, as amended; 47 U.S.C. 151-154, 227, and 303(r); the Junk Fax Prevention Act of 2005, and § 64.1200 of the Commission's rules, 47 CFR 64.1200 and 64.2401, this Order in CG Docket 02-278 and 05-338 is adopted.

The Commission's Consumer & Governmental Affairs Bureau, Reference Information Center, Shall send a copy of the Order to the Chief Counsel for Advocacy of the Small Business Administration.

Federal Communications Commission.
Marlene H. Dortch,
Secretary.

[FR Doc. 05-24210 Filed 12-16-05; 8:45 am]

BILLING CODE 6712-01-P